COMMODITY FUTURES TRADING COMMISSION

17 CFR Part 38

RIN 3038-AC28

Conflicts of Interest in Self-Regulation and Self-Regulatory Organizations

AGENCY: Commodity Futures Trading Commission (“Commission”).

ACTION: Extension of comment period.

SUMMARY: On July 7, 2006, the Commission published proposed Acceptable Practices for section 5(d)(15) of the Commodity Exchange Act (“Act”).¹ Comments on the proposal were originally due by August 7, 2006. Now, at the request of interested parties, the Commission is extending the comment period to September 7, 2006.

¹ 71 FR 38740 (July 7, 2006).

DATES: Comments must be received by September 7, 2006.

ADDRESSES: Written comments should be sent to Eileen A. Donovan, Acting Secretary, Commodity Futures Trading Commission, Three Lafayette Centre, 1155 21st Street, NW., Washington, DC 20581. Comments may also be submitted via E-mail at secretary@cftc.gov. “Regulatory Governance” must be in the subject field of responses submitted via E-mail, and clearly indicated in written submissions. Comments may also be submitted to the Federal eRulemaking Portal: http://www.regulations.gov.

FOR FURTHER INFORMATION CONTACT: Rachel F. Berdansky, Acting Deputy Director for Market Compliance, (202) 418-5429; or Sebastian Pujol Schott, Special Counsel, (202) 418-5641. Division of Market Oversight, Commodity Futures Trading Commission, Three Lafayette Centre, 1155 21st Street, NW., Washington, DC 20581.

SUPPLEMENTARY INFORMATION: On July 7, 2006, the Commission published and sought public comment on proposed Acceptable Practices for Section 5(d)(15) of the Act (“Core Principle 15”). The proposed Acceptable Practices would provide designated contract markets (“DCMs”) with a safe harbor for compliance with selected aspects of Core Principle 15's requirement that they minimize conflicts of interest in their decision-making. The Commission's proposal contains four parts. First, the Board Composition Acceptable Practice proposes that DCMs minimize potential conflicts of interest by maintaining governing boards composed of at least fifty percent “public” directors. Second, the proposed Regulatory Oversight Committee Acceptable Practice calls upon DCMs to establish board-level Regulatory Oversight Committees, composed solely of public directors, to oversee regulatory functions. Third, the Disciplinary Panel Acceptable Practice proposes that each disciplinary panel at all DCMs include at least one public participant, and that no panel be dominated by any group or class of exchange members. Finally, the proposed Acceptable Practices provide a definition of “public” for DCM directors and for members of disciplinary panels.

By letters dated July 14 and July 17, 2006, the Chicago Board of Trade (“CBOT”) and Chicago Mercantile Exchange (“CME”), respectively, requested that the original comment period be extended. CBOT requested an extension to at least September 6, and CME requested an extension to at least September 7. Recognizing the significance of the issues raised in the proposed Acceptable Practices, and to encourage the submission of meaningful comments, the Commission has decided to grant the requests. The comment period for the Commission's proposed Acceptable Practices for Section 5(d)(15) of the Act is hereby extended to September 7, 2006.

Issued in Washington, DC, on July 28, 2006, by the Commission.
Maria C. Alvarez-Kouns,
Paralegal Specialist.

[FR Doc. E6-12448 Filed 8-1-06; 8:45 am]

BILLING CODE 6351-01-P